DEPARTMENT OF HEALTH AND HUMAN SERVICES

Centers for Disease Control and Prevention

[60Day-20-20KW; Docket No. CDC-2020-0030]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled School Health Profiles Test-Retest Reliability Study. CDC is requesting a one-year approval to conduct the School Health Profiles Test-Retest Reliability Study, a study to test the reliability of the data collected through the School Health Profiles questionnaires administered by state and local agencies to principals and lead health education teachers in public secondary schools containing at least one of grades 6 through 12 in the United States.

DATES: CDC must receive written comments on or before May 15, 2020.

ADDRESSES: You may submit comments, identified by Docket No. CDC-2020-0030 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

School Health Profiles Test-Retest Reliability Study—New—National Center for HIV/AIDS, Viral Hepatitis, STD, and TB Prevention (NCHHSTP), Centers for Disease Control and Prevention (CDC).

Background and Brief Description

The purpose of this request is to obtain OMB approval to conduct the School Health Profiles Test-Retest Reliability Study to establish the reliability of the School Health Profiles (“Profiles”). Profiles is a system of school-based surveys conducted by state and local education and health agencies among school principals and lead health education teachers at the secondary school level to assess school health policies and practices related to health education, physical education and physical activity, tobacco use prevention, nutrition, school-based health services, family and community involvement in school health, and school health coordination. CDC seeks a one-year approval to conduct the School Health Profiles Test-Retest Reliability Study.

Profiles surveys are administered widely. In 2018, 48 states, 21 large urban school districts, and two territories conducted School Health Profiles. Across all of these jurisdictions, questionnaires were completed by approximately 10,000 principals and by approximately 9,000 lead health education teachers. States and large urban school districts use Profiles as a data source for performance measures for two Centers for Disease Control and Prevention cooperative agreements: CDC-RFA-PS18-1807, Promoting Adolescent Health Through School-Based HIV Prevention (PS18-1807), and CDC-RFA-DP18-1801 Improving Student Health and Academic Achievement Through Nutrition, Physical Activity and the Management of Chronic Conditions in Schools (DP18-1801). No other surveillance system measures school health policies and programs nationwide.

Between September and December of 2020, approximately 200 principals and 200 lead health education teachers from regular public secondary schools in the United States containing at least one of grades six through 12 will complete both a Time 1 and Time 2 Profiles questionnaire. Five questions will be added at the end of both the principal and lead health education teacher questionnaires at the Time 2 administration to gather data on why responses to the same questions may have changed or stayed the same between the two administrations. The table below reports the number of respondents annualized over the one-year project period. There are no costs to respondents except their time. The total estimated annualized burden hours are 686.

Estimated Annualized Burden Hours
Respondent | Form name | Number of respondents | Number of responses per respondent | Average burden per response (in hours) | Total burden (in hours)
School Principal | School Principal Questionnaire Time 1 | 200 | 1 | 45/60 | 150
School Principal | Nonresponse follow-up call | 150 | 1 | 5/60 | 13
School Principal | School Principal Questi\onnaire Time 2 | 200 | 1 | 50/60 | 167
School Principal | Nonresponse follow-up call | 150 | 1 | 5/60 | 13
Lead Health Education Teacher | Lead Health Education Teacher Questionnaire Time 1 | 200 | 1 | 45/60 | 150
Lead Health Education Teacher | Nonresponse follow-up call | 150 | 1 | 5/60 | 13
Lead Health Education Teacher | Lead Health Education Teacher Questionnaire Time 2 | 200 | 1 | 50/60 | 167
Lead Health Education Teacher | Nonresponse follow-up call | 150 | 1 | 5/60 | 13
Total |  |  |  |  | 686

Jeffrey M. Zirger,
Lead, Information Collection Review Office, Office of Scientific Integrity, Office of Science, Centers for Disease Control and Prevention.

[FR Doc. 2020-05313 Filed 3-13-20; 8:45 am]

BILLING CODE 4163-18-P